DEPARTMENT OF TRANSPORTATION

Federal Aviation Administration

Agency Information Collection Activities: Requests for Comments; Clearance of Reinstated Approval of Information Collection: Flight Simulation Device Initial and Continuing Qualification and Use

AGENCY: Federal Aviation Administration (FAA), DOT.

ACTION: Notice and request for comments.

SUMMARY: In accordance with the Paperwork Reduction Act of 1995, FAA invites public comments about our intention to request the Office of Management and Budget (OMB) approval to renew an information collection. This request for clearance reflects requirements necessary to ensure safety-of-flight by ensuring that complete and adequate training, testing, checking, and experience is obtained and maintained by those who operate under certain parts of FAA's regulations and use flight simulation in lieu of aircraft for these functions.

DATES: Written comments should be submitted by January 2, 2018.

ADDRESSES: Send comments to the FAA at the following address: Barbara Hall, Federal Aviation Administration, ASP-110, 10101 Hillwood Parkway, Fort Worth, TX 76177.

FOR FURTHER INFORMATION CONTACT: Barbara Hall by email at: Barbara.L.Hall@faa.gov; phone: 940-594-5913.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0680.

Title: Flight Simulation Device Initial and Continuing Qualification and Use.

Form Numbers: (Pending) Forms T001A, T002, T004, T011, T011-FD2, T012, T023, T024, T025.

Type of Review: This is a reinstatement of an information collection.

Background: This information collection requires sponsors of flight simulation training devices (FSTD) to systematically plan for and implement the requirements of part 60 and the associated Qualification Performance Standard (QPS). Sponsors have been sub-grouped into small, medium, and large based on the number of training centers. A sponsor will be guided through the administrative requirements by the local principal operations inspector or training center program manager and by representatives of the National Simulator Program staff regarding any FSTD for which the sponsor applicant seeks qualification.

The FAA has determined this information collection is necessary to amend the Qualification Performance Standards for FSTDs for the primary purpose of improving existing technical standards and introducing new technical standards for full stall and stick pusher maneuvers, upset recognition and recovery maneuvers, maneuvers conducted in airborne icing conditions, takeoff and landing maneuvers in gusting crosswinds, and bounced landing recovery maneuvers. These new and improved technical standards are intended to fully define FSTD fidelity requirements for conducting new flight training tasks introduced through changes to the air carrier training requirements. This information collection also addresses updated FSTD technical standards to better align with the current international FSTD evaluation guidance and introduces a new FSTD level that expands the number of qualified flight training tasks in a fixed base flight training device. This information collection will help ensure that the training and testing environment is accurate and realistic, in accordance with regulations.

Respondents: The estimate is based on a current sponsor count of 68 that changes on a continuous basis.

Frequency: Annual.

Estimated Average Burden per Response: 44 minutes.

Estimated Total Annual Burden: 93,385 hours.

Issued in Washington, DC, on October 26, 2017.
Barbara L. Hall,
FAA Information Collection Clearance Officer, Performance, Policy, and Records Management Branch, ASP-110.

[FR Doc. 2017-23891 Filed 11-2-17; 8:45 am]

BILLING CODE 4910-13-P